DEPARTMENT OF ENERGY

[Docket No. DI11-3-000]

Bear Creek Hydro Associates, LLC; Notice of Declaration of Intention and Soliciting Comments, Protests, and/or Motions To Intervene

Take notice that the following application has been filed with the Commission and is available for public inspection:

a. Application Type: Declaration of Intention.

b. Docket No: DI11-3-000.

c. Date Filed: February 14, 2011.

d. Applicant: Bear Creek Hydro Associates, LLC.

e. Name of Project: Bear Creek Hydro Project.

f. Location: The Bear Creek Hydro Project will be located on Bear Creek, near the town of Concrete, Skagit County, Washington, affecting T. 35 N., R. 8 E., sec. 11, SE ¼, and T. 36 N., R. 8 E., Sec. 14, NE ¼.

g. Filed Pursuant to: Section 23(b)(1) of the Federal Power Act, 16 U.S.C. 817(b).

h. Applicant Contact: Thomas M. McMaster, 358 Shallow Shore Road, Bellingham, WA 98229; Telephone: (360) 647-2196; e-mail: http://www.mcmastert@aol.com.

i. FERC Contact: Any questions on this notice should be addressed to Henry Ecton, (202) 502-8768, or e-mail address: henry.ecton@ferc.gov.

j. Deadline for filing comments, protests, and motions: April 13, 2011.

All documents should be filed electronically via the Internet. See 18 CFR 385.2001(a)(1)(iii) and the instructions on the Commission's Web site at http://www.ferc.gov/docs-filing/efiling.asp. If unable to be filed electronically, documents may be paper-filed. To paper-file, an original and seven copies should be filed with: Secretary, Federal Energy Regulatory Commission, 888 First Street, NE., Washington, DC 20426.

Commenters can submit brief comments up to 6,000 characters, without prior registration, using the eComment system at http://www.ferc.gov/docs-filing/ecomment.asp. Please include the docket number (DI11-3-000) on any comments, protests, and/or motions filed.

k. Description of Project: The run-of-river Bear Creek Hydro Project will consist of: (1) An existing pond with a surface area of 1.7 acres; (2) an existing 235-foot-long, 24-foot-high concrete diversion structure, with an ungated 82-foot-long overflow spillway; (3) a proposed 2,800-foot-long, 36-inch-diameter above-ground steel penstock, routed along the existing penstock alignment to the powerhouse; (4) an existing 28-foot-long, 82-foot wide powerhouse, containing two new 1,400-kW Pelton turbines, switchgear, and auxiliary equipment, with a computerized supervisory control system to control plant operations; (5) two existing tailraces, returning flows to Bear Creek; (6) a proposed 3.5-mile-long, 12.5 kV, 3-phase transmission line, interconnecting to the Puget Sound Energy transmission lines at Lake Tyee; and (7) appurtenant facilities.

When a Declaration of Intention is filed with the Federal Energy Regulatory Commission, the Federal Power Act requires the Commission to investigate and determine if the interests of interstate or foreign commerce would be affected by the proposed project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: Copies of this filing are on file with the Commission and are available for public inspection. This filing may be viewed on the web at http://www.ferc.gov using the “eLibrary” link. Enter the docket number excluding the last three digits in the docket number field to access the document. You may also register online at http://www.ferc.gov/docs-filing/esubscription.asp to be notified via e-mail of new filings and issuances related to this or other pending projects. For assistance, please contact FERC Online Support at FERCOnlineSupport@ferc.gov or toll-free at (866) 208-3676, or TTY, contact (202) 502-8659. A copy is also available for inspection and reproduction at the address in item (h) above.

m. Individuals desiring to be included on the Commission's mailing list should so indicate by writing to the Secretary of the Commission.

n. Comments, Protests, and/or Motions To Intervene—Anyone may submit comments, a protest, and a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, and/or motions to intervene must be received on or before the specified comment date for the particular application.

o. Filing and Service of Responsive Documents—Any filings must bear in all capital letters the title “COMMENTS”, “PROTESTS”, AND/OR “MOTIONS TO INTERVENE”, as applicable, and the Docket Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Dated: March 2, 2011.
Kimberly D. Bose,
Secretary.

[FR Doc. 2011-5318 Filed 3-8-11; 8:45 am]

BILLING CODE 6717-01-P